FEDERAL TRADE COMMISSION

Agency Information Collection Activities; Proposed Collection; Comment Request; Extension; Correction

AGENCY: Federal Trade Commission (“FTC” or “Commission”).

ACTION: Notice; correction.

SUMMARY: The FTC published a document in the Federal Register on August 7, 2007, seeking public comments on its proposals to extend: (1) The current Paperwork Reduction Act clearance for the information collection requirements contained in the Commission's Rule Concerning Disclosure of Written Consumer Product Warranty Terms and Conditions through November 30, 2010; and (2) the current Paperwork Reduction Act clearances for the information collection requirements contained in the Commission's Rule Governing Pre-Sale Availability of Written Warranty Terms and the Informal Dispute Settlement Procedures Rule through December 31, 2010. The document contained an incorrect weblink for submitting electronic comments.

FOR FURTHER INFORMATION CONTACT: Requests for additional information or copies of the proposed information requirements should be addressed to Allyson Himelfarb, Investigator, Division of Marketing Practices, Bureau of Consumer Protection, Federal Trade Commission, Room H-292, 600 Pennsylvania Ave., NW., Washington, DC 20580, (202) 326-2505.

Correction

In the Federal Register of August 7, 2007, in the FR Doc. E7-15328, on page 44140, in the third column, correct the ADDRESSES caption to read:

ADDRESSES: Interested parties are invited to submit written comments. Comments should refer to “Warranty Rules: Paperwork Comment, FTC File No. P044403” to facilitate the organization of comments. A comment filed in paper form should include this reference both in the text and on the envelope, and should be mailed or delivered, with two complete copies, to the following address: Federal Trade Commission, Room H-135, 600 Pennsylvania Avenue, NW., Washington, DC 20580. Because paper mail in the Washington area and at the Commission is subject to delay, please consider submitting your comments in electronic form, as prescribed below. However, if the comment contains any material for which confidential treatment is requested, it must be filed in paper form, and the first page of the document must be clearly labeled “Confidential.” ¹ The FTC is requesting that any comment filed in paper form be sent by courier or overnight service, if possible.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by using the following Weblink: https://secure.commentworks.com/ftc-warrantypra (and following the instructions on the Web-based form). To ensure that the Commission considers an electronic comment, you must file it on the Web-based form at the Weblink: https://secure.commentworks.com/ftc-warrantypra. If this notice appears at http://www.regulations.gov, you may also file an electronic comment through that Web site. The Commission will consider all comments that regulations.gov forwards to it.

The FTC Act and other laws the Commission administers permit the collection of public comments to consider and use in this proceeding as appropriate. All timely and responsive public comments will be considered by the Commission, and will be available to the public on the FTC Web site, to the extent practicable, at httpa://www.ftc.gov. As a matter of discretion, the FTC makes every effort to remove home contact information for individuals from the public comments it receives before placing those comments on the FTC Web site. More information, including routine uses permitted by the Privacy Act, may be found in the FTC's privacy policy, at http://www.ftc.gov/ftc/privacy.htm.

Richard C. Donohue,
Acting Secretary.

[FR Doc. E7-15695 Filed 8-9-07; 8:45 am]

BILLING CODE 6750-01-P